FEDERAL ELECTION COMMISSION

[Notice 2001-2]

Filing Dates for the Pennsylvania Special Election in the 9th Congressional District

AGENCY: Federal Election Commission.

ACTION: Notice of filing dates for special election.

SUMMARY: Pennsylvania has scheduled a special election on May 15, 2001, to fill the U.S. House of Representatives seat in the Ninth Congressional District vacated by Congressman Bud Shuster.

Committees participating in the Pennsylvania special election are required to file pre- and post-election reports.

FOR FURTHER INFORMATION CONTACT: Mr. Gregory J. Scott, Information Division, 999 E Street, NW., Washington, DC 20463; Telephone: (202) 694-1100; Toll Free (800) 424-9530.

SUPPLEMENTARY INFORMATION: All principal campaign committees of candidates who participate in the Pennsylvania Special General and all other political committees that support candidates in the Special General shall file a 12-day Pre-General Report on May 3, 2001, with coverage dates from the close of the last report filed, or the day of the committee's first activity, whichever is later, through April 25, 2001; and a 30-day Post-General Report on June 14, 2001, with coverage dates from April 26 through June 4, 2001.

Committees filing monthly that support candidates in the Pennsylvania Special General should continue to file according to the non-election year monthly reporting schedule.

Calendar of Reporting Dates for Pennsylvania Special Elections

Committees Involved in the Special General (05/15/01) Must File
Report | Close of books ¹ | Reg./cert. mailing date ² | Filing date
Pre-General | 04/25/01 | 04/30/01 | 05/03/01
Post-General | 06/04/01 | 06/14/01 | 06/14/01
Mid-Year | 06/30/01 | 07/31/01 | 07/31/01
¹ The period begins with the close of books of the last report filed by the committee. If the committee has filed no previous reports, the period begins with the date of the committee's first activity.
² Reports sent registered or certified mail must be postmarked by the mailing date; otherwise, they must be received by the filing date.

Dated: February 15, 2001.
Karl J. Sandstrom,
Commissioner, Federal Election Commission.

[FR Doc. 01-4246 Filed 2-20-01; 8:45 am]

BILLING CODE 6715-01-P